DEPARTMENT OF HEALTH AND HUMAN SERVICES

Food and Drug Administration

[Docket No. FDA-2019-N-5254]

Fresenius USA, Inc., et al.; Proposal To Withdraw Approval of 249 Abbreviated New Drug Applications; Opportunity for a Hearing

AGENCY: Food and Drug Administration, HHS.

ACTION: Notice.

SUMMARY: The Food and Drug Administration's (FDA or Agency) Center for Drug Evaluation and Research (CDER) is proposing to withdraw approval of 249 abbreviated new drug applications (ANDAs) from multiple holders of those ANDAs and is announcing an opportunity for the ANDA holders to request a hearing on this proposal. The basis for the proposal is that these ANDA holders have repeatedly failed to file required annual reports for those ANDAs.

DATES: The ANDA holders may submit a request for a hearing by February 10, 2020. Submit all data, information, and analyses upon which the request for a hearing relies by March 9, 2020. Submit electronic or written comments by March 9, 2020.

ADDRESSES: The request for a hearing may be submitted by the ANDA holders by either of the following methods:

Electronic Submissions

Submit electronic comments in the following way:

• Federal eRulemaking Portal: https://www.regulations.gov. Follow the instructions for submitting comments to submit your request for a hearing. Comments submitted electronically to https://www.regulations.gov, including any attachments to the request for a hearing, will be posted to the docket unchanged.

Written/Paper Submissions

Submit written/paper submissions as follows:

• Mail/Hand Delivery/Courier (for written/paper submissions): Dockets Management Staff (HFA-305), Food and Drug Administration, 5630 Fishers Lane, Rm. 1061, Rockville, MD 20852.

• Because your request for a hearing will be made public, you are solely responsible for ensuring that your request does not include any confidential information that you or a third party may not wish to be posted, such as medical information, your or anyone else's Social Security number, or confidential business information, such as a manufacturing process. The request for a hearing must include the Docket No. FDA-2019-N-5254 for “Fresenius USA, Inc., et al.; Proposal To Withdraw Approval of 249 ANDAs; Opportunity for a Hearing.” The request for a hearing will be placed in the docket and publicly viewable at https://www.regulations.gov or at the Dockets Management Staff between 9 a.m. and 4 p.m., Monday through Friday.

The ANDA holders may submit all data and analyses upon which the request for a hearing relies in the same manner as the request for a hearing except as follows:

• Confidential Submissions—To submit any data analyses with confidential information that you do not wish to be made publicly available, submit your data and analyses only as a written/paper submission. You should submit two copies total of all data and analyses. One copy will include the information you claim to be confidential with a heading or cover note that states “THIS DOCUMENT CONTAINS CONFIDENTIAL INFORMATION.” The Agency will review this copy, including the claimed confidential information, in its consideration of any decisions on this matter. The second copy, which will have the claimed confidential information redacted/blacked out, will be available for public viewing and posted on https://www.regulations.gov or available at the Dockets Management Staff between 9 a.m. and 4 p.m., Monday through Friday. Submit both copies to the Dockets Management Staff. Any information marked as “confidential” will not be disclosed except in accordance with § 10.20 (21 CFR 10.20) and other applicable disclosure law.

Comments Submitted by Other Interested Parties: For all comments submitted by other interested parties, submit comments as follows:

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2019-N-5254 for “Fresenius USA, Inc., et al.; Proposal To Withdraw Approval of 249 ANDAs; Opportunity for a Hearing.” Received comments, those filed in a timely manner (see ADDRESSES), will be placed in the docket and, except for those submitted as “Confidential Submissions,” publicly viewable at https://www.regulations.gov or at the Dockets Management Staff between 9 a.m. and 4 p.m., Monday through Friday.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with § 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852.

FOR FURTHER INFORMATION CONTACT: Martha Nguyen, Center for Drug Evaluation and Research, Food and Drug Administration, 10903 New Hampshire Ave., Bldg. 75, Rm. 1676, Silver Spring, MD 20993-0002, 240-402-7920, Martha.Nguyen@fda.hhs.gov.

SUPPLEMENTARY INFORMATION: The holders of approved ANDAs to market new drugs for human use are required to submit annual reports to FDA concerning each of their approved ANDAs under §§ 314.81 and 314.98 (21 CFR 314.81 and 314.98). The holders of the approved ANDAs listed in the following table have repeatedly failed to submit the required annual reports and have not responded to the Agency's request, sent by certified mail, for submission of the reports.

Application No. | Drug | Applicant
ANDA 020374 | Inpersol-LC/LM With Dextrose 1.5% (calcium chloride, dextrose, magnesium chloride, sodium chloride, sodium lactate) Intraperitoneal Solution, 18.4 milligrams (mg)/100 milliliters (mL); 1.5 grams (g)/100 mL; 5.08 mg/100 mL; 538 mg/100 mL; 448 mg/100 mL | Fresenius USA, Inc., 2637 Shadelands Dr., Walnut Creek, CA 94598.
| Inpersol-LC/LM With Dextrose 2.5% (calcium chloride, dextrose, magnesium chloride, sodium chloride, sodium lactate) Intraperitoneal Solution, 18.4 mg/100 mL; 2.5 g/100 mL; 5.08 mg/100 mL; 538 mg/100 mL; 448 mg/100 mL
| Inpersol-LC/LM With Dextrose 3.5% (calcium chloride, dextrose, magnesium chloride, sodium chloride, sodium lactate) Intraperitoneal Solution, 18.4 mg/100 mL; 3.5 g/100 mL; 5.08 mg/100 mL; 538 mg/100 mL; 448 mg/100 mL
| Inpersol-LC/LM With Dextrose 4.25% (calcium chloride, dextrose, magnesium chloride, sodium chloride, sodium lactate) Intraperitoneal Solution, 18.4 mg/100 mL; 4.25 g/100 mL; 5.08 mg/100 mL; 538 mg/100 mL; 448 mg/100 mL
ANDA 040057 | Epinephrine and Lidocaine Hydrochloride (HCl) Injection, 0.01 mg/mL; 2% and 0.02 mg/mL; 2% | Eastman Kodak Co., 343 State St., Rochester, NY 14650.
ANDA 040168 | Hydrocortisone and Acetic Acid Otic Solution USP, 1%/2% | Wockhardt EU Operations (Swiss) AG, c/o Morton Grove Pharmaceuticals, Inc., 6451 West Main St., Morton Grove, IL 60053.
ANDA 040192 | Prednisolone Syrup, 15 mg/5 mL | WE Pharmaceuticals, Inc., 1142 D St., P.O. Box 1142, Ramona, CA 92065.
ANDA 060074 | Penicillin G Potassium for Injection, 20,000,000 units/vial | Pfizer Laboratories, Division of Pfizer, Inc., 235 East 42nd St., New York, NY 10017.
ANDA 060131 | Tetracycline HCl Capsules | Leiner Health Products, Inc., 901 East 233rd St., Carson, CA 90745.
ANDA 060461 | Neomycin Sulfate Ointment; Neomycin Sulfate and Hydrocortisone Acetate Ointment | Ambix Laboratories, Division of Organics Corp. of America, 210 Orchard St., East Rutherford, NJ 07073.
ANDA 060521 | Humatin (paromomycin sulfate) Capsules USP, Equivalent to (EQ) 250 mg base | Parkedale Pharmaceuticals, Inc., 501 5th St., Bristol, TN 37620.
ANDA 060602 | Penicillin G Potassium Powder | John D. Copanos and Co., Inc., 6110 Robinwood Rd., Baltimore, MD 21225.
ANDA 060627 | Tribiotic (polymyxin B sulfate, bacitracin, and neomycin sulfate) Ointment, 5000 units/400 units/5 mg | Ambix Laboratories, Division of Organics Corp. of America.
ANDA 060709 | Oleandomycin Injection | Roerig, Division of Pfizer, Inc., 235 East 42nd St., New York, NY 10017.
ANDA 060724 | Pyocidin-HC (neomycin sulfate, polymyxin B sulfate, and hydrocortisone) Otic Solution | Kasco-EFCO Laboratories, Inc., Cantiague Rock Rd., Hicksville, NY 11802.
ANDA 060769 | Tetracycline Syrup | West-Ward Pharmaceutical Corp., 465 Industrial Way West, Eatontown, NJ 07724.
ANDA 060773 | Tetracycline Syrup | Leiner Health Products, Inc.
ANDA 060870 | Oxytetracycline Injection | Proter S.p.A., c/o Richmar International, Inc., 1706 Birch Rd., McLean, VA 22101.
ANDA 061034 | Lincomycin HCl Powder | Pharmacia and Upjohn Co., 7171 Portage Rd., Kalamazoo, MI 49001.
ANDA 061064 | Nystatin Ointment | Lederle Laboratories, Division of American Cyanamid Co., 401 North Middletown Rd., Pearl River, NY 10965.
ANDA 061087 | Benzocaine, Oxytetracycline HCl, and Polymyxin B Sulfate Otic Solution | Pfizer Laboratories, Division of Pfizer, Inc.
ANDA 061154 | Hydrocortisone Acetate and Neomycin Sulfate Ointment | Ambix Laboratories, Division of Organics Corp. of America.
ANDA 061209 | Bacitracin Ointment USP, 500 units/g | Do.
ANDA 061228 | Griseofulvin Capsules | Owen Laboratories, Division of Alcon Laboratories, 3737 Beltline Rd., Dallas, TX 75234.
ANDA 061483 | Penicillin G Potassium Tablets | Leiner Health Products, Inc.
ANDA 061518 | Bacitracin Zinc Ointment | Rexall Drug Co., 135 Chesterfield Industrial Blvd., Chesterfield, MO 63017.
ANDA 061519 | Bacitracin Zinc and Neomycin Sulfate Ointment | Do.
ANDA 061520 | Bacitracin Zinc and Neomycin Sulfate/Polymyxin B Sulfate Ointment | Do.
ANDA 061521 | Bacitracin Zinc, Benzocaine, and Neomycin Sulfate/Polymyxin B Sulfate Ointment | Do.
ANDA 061528 | Penicillin V Potassium Tablets USP, EQ 250 mg base and EQ 500 mg base | American Antibiotics, Inc., 6110 Robinwood Rd., Baltimore, MD 21225.
ANDA 061529 | Penicillin V Potassium for Oral Solution USP, EQ 125 mg base/5 mL and EQ 250 mg base/5 mL | Do.
ANDA 061532 | Ampicillin Trihydrate Capsules | Leiner Health Products, Inc.
ANDA 061601 | Ampicillin for Oral Suspension USP, EQ 125 mg base/5 mL and EQ 250 mg base/5 mL | American Antibiotics, Inc.
ANDA 061602 | Ampicillin Capsules USP, EQ 250 mg base and EQ 500 mg base | Do.
ANDA 061632 | Ampicillin Trihydrate Capsules, 250 mg | Chromalloy Pharmaceuticals, Inc., 5353 Grosvenor Blvd., Los Angeles, CA 90066.
ANDA 061652 | Oxytetracycline Capsules | Warner-Lambert Co., 201 Tabor Rd., Morris Plains, NJ 07950.
ANDA 061674 | Penicillin V Potassium Tablets | Leiner Health Products, Inc.
ANDA 061697 | Griseofulvin Capsules | Watson Laboratories, Inc., 311 Bonnie Cir., Corona, CA 92880.
ANDA 061699 | Bacitracin Powder for Rx Compounding, 5,000,000 units/bottle | Apothekernes Laboratorium A.S., c/o AL Laboratories, Inc., 1 Executive Dr., Fort Lee, NJ 07024.
ANDA 061701 | Tetracycline Syrup, 125 mg/5 mL | AH Robins Co., 1211 Sherwood Ave., Richmond, VA 23220.
ANDA 061725 | Cyclopar (tetracycline HCl) Capsules USP, 250 mg and 500 mg | Warner-Lambert Co.
ANDA 061833 | Oxytetracycline HCl Capsules, 250 mg | Pliva, c/o Transtrade USA, Ltd., 515 Madison Ave., 4th Floor East, New York, NY 10022.
ANDA 061847 | Bleomycin Sulfate Injection | Takasaki Plant, Nippon Kayaku Co., Ltd., 500 5th Ave., Suite 1726, New York, NY 10110.
ANDA 061857 | Penicillamine Powder | Chemiewerk Homberg, c/o Wallace Laboratories, Cranbury, NJ 08512.
ANDA 061903 | Bacitracin Zinc and Polymyxin B Sulfate Ointment | Ambix Laboratories, Division of Organics Corp. of America.
ANDA 061943 | Chloramphenicol Ophthalmic Solution, 0.5% | Lederle Laboratories, Division of American Cyanamid Co., 1 Cyanamid Plaza, Wayne, NJ 07470.
ANDA 062032 | Erythromycin Stearate Tablets, EQ 250 mg base and EQ 500 mg base | Warner-Lambert Co.
ANDA 062085 | Tetracycline HCl Capsules, 250 mg | MM Mast and Co., 4152 Ruple Rd., Cleveland, OH 44121.
ANDA 062175 | Tetracycline HCl Capsules, 250 mg | Warner-Lambert Co.
ANDA 062205 | Cefaclor Capsules USP, EQ 250 mg base and EQ 500 mg base | Ceph International Corp. c/o Mova Pharmaceutical Corp., State Rd #1 Jose Garrido St., Cagus, PR 00725.
ANDA 062215 | Oxytetracycline HCl Capsules | Lederle Laboratories, Division of American Cyanamid Co., Pearl River, NY 10965-1215.
ANDA 062340 | Gentamicin Sulfate Injection | Pharmaceutical Specialist Association, 9852 Cowden St., Philadelphia, PA 19115.
ANDA 062467 | E-Solve 2 (erythromycin) Lotion, 2% | Syosset Laboratories, Inc., 150 Eileen Way, Syosset, NY 11791.
ANDA 062758 | Eryzole (erythromycin ethylsuccinate and sulfisoxazole acetyl) Granules, EQ 200 mg base/5 mL; EQ 600 mg base/5 mL | Alra Laboratories, Inc., 3850 Clearview Ct., Gurnee, IL 60031.
ANDA 062869 | Cephalexin Capsules USP, EQ 500 mg base | Jerome Stevens Pharmaceuticals Inc., 60 DaVinci Dr., Bohemia, NY 11716.
ANDA 062870 | Cephalexin Capsules USP, EQ 250 mg base | Do.
ANDA 062944 | Clindamycin Phosphate Topical Solution USP, EQ 1% base | BOCA Pharmacal, LLC., 3550 North West 126th Ave., Coral Springs, FL 33065.
ANDA 070104 | Chlorhexidine Gluconate Topical Solution, 4% | Matrix Medical Corp., 1825 South 3730 West, Salt Lake City, UT 84104.
ANDA 071054 | Constilac (lactulose) Solution, 10 g/15 mL | Alra Laboratories, Inc.
ANDA 071057 | Ibu-tab 200 (ibuprofen) Tablets, 200 mg | Do.
ANDA 071058 | Ibu-tab (ibuprofen) Tablets, 400 mg | Do.
ANDA 071059 | Ibu-tab (ibuprofen) Tablets, 600 mg | Do.
ANDA 071104 | Leucovorin Calcium Tablets, EQ 15 mg base | Xanodyne Pharmacal, Inc., 7310 Turfway Rd., Suite 490, Florence, KY 41042.
ANDA 071139 | Trazodone HCl Tablets, 50 mg | American Therapeutics, Inc., 89 Carlough Rd., Bohemia, NY 11716.
ANDA 071140 | Trazodone HCl Tablets, 100 mg | Do.
ANDA 071331 | Cholac (lactulose) Solution, 10 g/15 mL | Alra Laboratories, Inc.
ANDA 071362 | Meclofenamate Sodium Capsules USP, 50 mg | American Therapeutics, Inc.
ANDA 071363 | Meclofenamate Sodium Capsules USP, 100 mg | Do.
ANDA 071419 | Brian Care (chlorhexidine gluconate) Topical Solution, 4% | Soapco, Inc., P.O. Box 5490, Pleasanton, CA 94566.
ANDA 071429 | Clorazepate Dipotassium Capsules, 3.75 mg | American Therapeutics, Inc.
ANDA 071430 | Clorazepate Dipotassium Capsules, 7.5 mg | Do.
ANDA 071431 | Clorazepate Dipotassium Capsules, 15 mg | Do.
ANDA 071569 | Danazol Capsules USP, 200 mg | Do.
ANDA 071787 | Gen-Xene (clorazepate dipotassium) Tablets, 3.75 mg | Alra Laboratories, Inc.
ANDA 071788 | Gen-Xene (clorazepate dipotassium) Tablets, 7.5 mg | Do.
ANDA 071789 | Gen-Xene (clorazepate dipotassium) Tablets, 15 mg | Do.
ANDA 071955 | Oxazepam Capsules USP, 10 mg | American Therapeutics, Inc.
ANDA 071956 | Oxazepam Capsules USP, 15 mg | Do.
ANDA 071957 | Oxazepam Capsules USP, 30 mg | Do.
ANDA 071962 | Leucovorin Calcium Tablets, EQ 10 mg base | Xanodyne Pharmacal, Inc.
ANDA 071965 | Ibu-tab (ibuprofen) Tablets, 800 mg | Alra Laboratories, Inc.
ANDA 072022 | Triamterene and Hydrochlorothiazide Tablets, 75 mg/50 mg | American Therapeutics, Inc.
ANDA 072129 | Maprotiline HCl Tablets USP, 25 mg | Do.
ANDA 072130 | Maprotiline HCl Tablets USP, 50 mg | Do.
ANDA 072131 | Maprotiline HCl Tablets USP, 75 mg | Do.
ANDA 072190 | Metaproterenol Sulfate Inhalation Solution, 5% | Wockhardt EU Operations (Swiss) AG, c/o Morton Grove Pharmaceuticals, Inc.
ANDA 072196 | Milophene (clomiphene citrate) Tablets, 50 mg | Milex Products, Inc., 5915 Northwest Highway, Chicago, IL 60631.
ANDA 072255 | Microderm (chlorhexidine gluconate) Topical Solution, 4% | Johnson and Johnson Medical, Inc., 2500 Arbrook Blvd., Arlington, TX 76014.
ANDA 072292 | Prevacare R (chlorhexidine gluconate) Topical Solution, 0.5% | Do.
ANDA 072295 | Microderm (chlorhexidine gluconate) Topical Sponge, 4% | Do.
ANDA 072307 | Fenoprofen Calcium Capsules USP, 200 mg | American Therapeutics, Inc.
ANDA 072308 | Fenoprofen Calcium Capsules USP, 300 mg | Do.
ANDA 072309 | Fenoprofen Calcium Tablets USP, 600 mg | Do.
ANDA 072782 | Prazosin HCl Capsules USP, 1 mg | Do.
ANDA 072783 | Prazosin HCl Capsules USP, 2 mg | Do.
ANDA 072784 | Prazosin HCl Capsules USP, 5 mg | Do.
ANDA 073416 | E-Z Scrub (chlorhexidine gluconate) Topical Sponge, 4% | Becton Dickinson Surgical System, 9450 South State St., Sandy, UT 84070.
ANDA 073535 | Piroxicam Capsules, 10 mg | Mutual Pharmaceutical Co., Inc., 1100 Orthodox St., Philadelphia, PA 19124.
ANDA 074523 | Metromidol (metronidazole) Tablets, 250 mg and 500 mg | Laboratorios Applicaciones Farmaceuticas S.A. de CV, c/o Richard Hamer Association, Inc., P.O. Box 16598, Fort Worth, TX 76162.
ANDA 074560 | Flurbiprofen Tablets USP, 100 mg | Theragen, Inc., 10 Lake Dr., East Windsor, NJ 08520.
ANDA 074702 | Metaproterenol Sulfate Syrup, 10 mg/5 mL | Wockhardt EU Operations (Swiss) AG, c/o Morton Grove Pharmaceuticals, Inc.
ANDA 074881 | Iopamidol Injection, 41%, 51%, 61%, and 76% | Cook Imaging Corp., 927 South Curry Pike, P.O. Box 3068, Bloomington, IN 47403.
ANDA 074988 | Aspirin, Caffeine, and Orphenadrine Citrate Tablets, 385 mg/30 mg/25 mg and 770 mg/60 mg/50 mg | Jerome Stevens Pharmaceuticals, Inc.
ANDA 075181 | Prednisolone Sodium Phosphate Oral Solution, EQ 5 mg base/5 mL | WE Pharmaceuticals, Inc.
ANDA 075260 | Tretinoin Topical Solution, 0.05% | Wockhardt EU Operations (Swiss) AG, c/o Morton Grove Pharmaceuticals, Inc.
ANDA 075414 | Nifedipine Extended-Release Tablets, 90 mg | Martec USA, LLC, 1800 North Topping Ave., Kansas City, MO 64120.
ANDA 075507 | Ipratropium Bromide Inhalation Solution, 0.02% | Pharmascience, Inc., 10 Orchard Pl., Tenafly City, NJ 07670.
ANDA 075569 | Thallous Chloride TL 201 Injection USP, 1 millicurie (mCi)/mL | Trace Life Sciences, Inc., 2101 Shady Oaks, Denton, TX 76205.
ANDA 075586 | Metaproterenol Sulfate Inhalation Solution, 0.4% and 0.6% | Wockhardt EU Operations (Swiss) AG, c/o Morton Grove Pharmaceuticals, Inc.
ANDA 075619 | Minoxidil Extra Strength (for Men) Topical Solution, 5% | Avacor Products, LLC, 227 East 56th St., 3rd Floor, New York, NY 10022.
ANDA 075766 | Calcitriol Injection, 1 microgram (mcg)/mL and 2 mcg/mL | Fresenius Medical Care North America, 95 Hayden Ave., Lexington, MA 02421.
ANDA 075941 | Strontium Chloride SR-89 Injection, 1 mCi/mL | Bio-Nucleonics, Inc., 1600 Market St., Suite 13200, Philadelphia, PA 19103.
ANDA 077072 | Ipratropium Bromide Inhalation Solution, 0.02% | Landela Pharmaceutical, 776 East Riverside Dr., Suite 150, Eagle, ID 83616.
ANDA 077218 | ThyroShield (potassium iodide) Oral Solution USP, 65 mg/mL | Arco Pharmaceuticals, LLC, 7605 Maryland Ave., St. Louis, MO 63105.
ANDA 077569 | Albuterol Sulfate Inhalation Solution, EQ 0.083% base | Landela Pharmaceutical.
ANDA 080024 | Sulfacel-15 (sulfacetamide sodium) Ophthalmic Solution, 15% | Optopics Laboratories Corp., P.O. Box 210, Fairton, NJ 08320.
ANDA 080036 | Sosol (sulfisoxazole) Tablets, 500 mg | MK Laboratories, Inc., 424 Grasmere Ave., Fairfield, CT 06430.
ANDA 080366 | Soxazole (sulfisoxazole) Tablets, 500 mg | Alra Laboratories, Inc.
ANDA 080380 | Bamate (meprobamate) Tablets, 200 mg and 400 mg | Do.
ANDA 080483 | Hi-cor (hydrocortisone) Cream, 2.5% | C and M Pharmacal, Inc., 1519 East 8 Mile Rd., Hazel Park, MI 48030.
ANDA 080492 | Reserpine Tablets, 0.1 mg and 0.25 mg | Marshall Pharmacal Corp., 89 Michael St., South Hackensack, NJ 07606.
ANDA 080518 | Dimenhydrinate Tablets, 50 mg | Alra Laboratories, Inc.
ANDA 080519 | Diphenhydramine HCl Capsules, 25 mg and 50 mg | Do.
ANDA 080525 | Reserpine Tablets, 0.1 mg and 0.25 mg | MK Laboratories, Inc.
ANDA 080592 | Diphenhydramine HCl Capsules, 50 mg | Valeant Pharmaceuticals International, One Enterprise, Aliso Viejo, CA 92656.
ANDA 080660 | Ocusulf (sulfacetamide sodium) Ophthalmic Solution, 10% and 30% | Miza Pharmaceuticals USA, Inc., c/o Optopics Laboratories, 40 Main St., P.O. Box 210, Fairton, NJ 08320.
ANDA 080714 | Diphenhydramine HCl Oral Solution, 12.5 mg/5 mL | Alra Laboratories, Inc.
ANDA 080715 | Dimenhydrinate Oral Solution, 12.5 mg/4 mL | Do.
ANDA 080941 | Isoniazid Tablets, 100 mg | MK Laboratories, Inc.
ANDA 080970 | Methscopolamine Bromide Tablets, 2.5 mg | Private Formulations, Inc., 460 Plainfield Ave., Edison, NJ 08818.
ANDA 081145 | Aspirin and Methocarbamol Tablets, 325 mg/400 mg | Jerome Stevens Pharmaceuticals, Inc.
ANDA 083001 | Triamcinolone Acetonide Aerosol Foam Emulsion | Lederle Laboratories, Division of American Cyanamid Co., Pearl River, NY 10965-1215.
ANDA 083087 | Diphenhydramine HCl Capsules, 25 mg and 50 mg | MK Laboratories, Inc.
ANDA 083088 | Diphenhydramine HCl Elixir, 12.5 mg/5 mL | Do.
ANDA 083264 | Pentobarbital Sodium Capsules, 100 mg | Valeant Pharmaceuticals International.
ANDA 083286 | Chlorpheniramine Maleate Tablets | Marshall Pharmacal Corp.
ANDA 083315 | Procaine HCl Injection, 1% and 2% | Elkins Sinn Pharmaceutical Co., c/o ESI Lederle, 2 Esterbrook Ln., Cherry Hill, NJ 08003.
ANDA 083320 | Acetazolamide Tablets, 250 mg | Alra Laboratories, Inc.
ANDA 083389 | Epinephrine and Lidocaine HCl Injection, 0.01 mg/mL and 1% | Dell Laboratories, Inc., 668 Front St., Teaneck, NJ 07666.
ANDA 083390 | Epinephrine and Lidocaine HCl Injection, 0.01 mg/mL and 2% | Do.
ANDA 083457 | Vitamin A Palmitate Capsules, EQ 25,000 units base and EQ 50,000 units base | MK Laboratories, Inc.
ANDA 083524 | Butabarbital Sodium Tablets, 16.2 mg | Marshall Pharmacal Corp.
ANDA 083525 | Niacin Tablets, 500 mg | MK Laboratories, Inc.
ANDA 083526 | Folic Acid Tablets, 1 mg | Do.
ANDA 083658 | Promethazine HCl Tablets, 25 mg | Private Formulations, Inc.
ANDA 083806 | Dexamethasone Tablets, 0.75 mg | Phoenix Laboratories, Inc., 175 Lauman Ln., East Hicksville, NY 11801.
ANDA 083827 | Pramine (imipramine HCl) Tablets, 10 mg, 25 mg, and 50 mg | Alra Laboratories, Inc.
ANDA 083858 | Butabarbital Sodium Tablets, 32.4 mg | Marshall Pharmacal Corp.
ANDA 083863 | Sulfisoxazole Cream | Holland Rantos Co., Inc., P.O. Box 385, Piscataway, NJ 08854.
ANDA 084185 | Bethanechol Chloride Tablets, 10 mg | Wendt Laboratories, Inc., 200 West Beaver, P.O. Box 128, Belle Plaine, MN 56011.
ANDA 084186 | Bethanechol Chloride Tablets, 25 mg | Do.
ANDA 084188 | Myotonachol (bethanechol chloride) Tablets, 5 mg, 10 mg, and 25 mg | Glenwood, Inc., 83 North Summit St., P.O. Box 518, Tenafly, NJ 07670.
ANDA 084246 | Cortisone Acetate Tablets, 25 mg | Everylife, 2021 15th Ave., West Seattle, WA 98119.
ANDA 084439 | Prednisolone Tablets, 1 mg, 2.5 mg, and 5 mg | Do.
ANDA 084440 | Prednisone Tablets, 1 mg, 2.5 mg, and 5 mg | Do.
ANDA 084494 | Hydrochlorothiazide Tablets | West-Ward Pharmaceutical Corp.
ANDA 084590 | Pentobarbital Sodium Capsules, 100 mg | Anabolic, Inc., 1835 East Cheyenne Rd., Colorado Springs, CO 80905.
ANDA 084631 | Quinidine Sulfate Tablets USP, 200 mg | Sandoz, Inc., 4700 Eon Dr., Wilson, NC 27893.
ANDA 084687 | Niacin Tablets, 500 mg | Zzeon Pharmaceuticals, Ltd., Jamboree at Kevin, Irvine, CA 92705,
ANDA 084714 | Hydro-Reserp (hydrochlorothiazide and reserpine) Tablets, 50 mg/0.125 mg | ABC Holding Corp., P.O. Box 307, 70945 Van Dyke Ave., Romeo, MI 48065.
ANDA 084729 | Lidocaton (epinephrine and lidocaine HCl) Injection, 0.01 mg/mL and 2% | Pharmaton, Ltd., c/o Bass Ullmna and Lustigman, 747 3rd Ave., New York, NY 10017.
ANDA 084803 | Chlorpromazine HCl Tablets, 10 mg | Lederle Laboratories, Division of American Cyanamid Co., Pearl River, NY 10965-1215.
ANDA 084872 | Meclizine HCl Tablets, 25 mg | CM Bundy Co., 2055 Reading Rd., Cincinnati, OH 45205.
ANDA 084902 | Promethacon (promethazine HCl) Suppository, 50 mg | Polymedica Industries, Inc., 2 Constitution Way, Woburn, MA 01801.
ANDA 084931 | Methamphetamine HCl Tablets, 5 mg and 10 mg | Rexar Pharmacal, 396 Rockaway Ave., Valley Stream, NY 11581.
ANDA 084933 | Diethylstilbestrol Tablets, 1 mg | West-Ward Pharmaceutical Corp.
ANDA 084977 | Halothane Inhalation, 99.99% | BH Chemicals, Inc., 500 5th Ave., New York, NY 10036.
ANDA 085009 | Lygen (chlordiazepoxide HCl) Capsules, 10 mg | Alra Laboratories, Inc.
ANDA 085039 | Folic Acid Tablets USP, 1 mg | Wendt Laboratories, Inc.
ANDA 085040 | Isoniazid Tablets USP, 100 mg | Do.
ANDA 085041 | Meclizine HCl Tablets, 25 mg | Do.
ANDA 085042 | Methocarbamol Tablets USP, 500 mg | Do.
ANDA 085044 | Reserpine Tablets USP, 0.25 mg | Do.
ANDA 085075 | Aerolate III (theophylline) Extended-Release Capsules, 65 mg | Fleming and Co. Pharmaceuticals, Inc., 1600 Fenton Park Dr., Fenton, MO 63026.
| Aerolate JR (theophylline) Extended-Release Capsules, 130 mg.
| Aerolate SR (theophylline) Extended-Release Capsules, 260 mg.
ANDA 085107 | Lygen (chlordiazepoxide HCl) Capsules, 5 mg | Alra Laboratories, Inc.
ANDA 085108 | Lygen (chlordiazepoxide HCl) Capsules, 25 mg | Do.
ANDA 085125 | Methyltestosterone Sublingual Tablets, 10 mg | Tablicaps, Inc., P.O. Box 5555, Franklinville, NJ 08322.
ANDA 085217 | Acetaminophen and Codeine Phosphate Tablets, 325 mg/30 mg | Everylife.
ANDA 085235 | Chlordiazepoxide HCl Capsules | Abbott Laboratories, Pharmaceutical Products Division, 100 Abbott Park Rd., Abbott Park, IL 60064.
ANDA 085236 | Chlordiazepoxide HCl Capsules | Do.
ANDA 085252 | Meclizine HCl Tablets, 25 mg | ABC Holding Corp.
ANDA 085253 | Meclizine HCl Tablets, 12.5 mg | Do.
ANDA 085282 | Hydrocortisone Lotion, 0.5% and 1% | Mericon Industries, Inc., 8819 North Pioneer Rd., Peoria, IL 61615.
ANDA 085383 | Butabarbital Sodium Elixir, 30 mg/5 mL | Wockhardt EU Operations (Swiss) AG, c/o Morton Grove Pharmaceuticals, Inc.
ANDA 085411 | Phentermine HCl Capsules, 30 mg | ABC Holding Corp.
ANDA 085511 | Cam-Metrazine (phendimetrazine tartrate) Tablets, 35 mg | Do.
ANDA 085512 | Phenazine-35 (phendimetrazine tartrate) Tablets, 35 mg | Do.
ANDA 085550 | Butabarbital Sodium Tablets, 30 mg | CM Bundy Co.
ANDA 085569 | Chlorothiazide Tablets, 250 mg | ABC Holding Corp.
ANDA 085587 | Meclizine Hydrochloride Chewable Tablets | Camall Co., Inc., 60950 Van Dyke Ave., P.O. Box 218, Washington, MI 48094.
ANDA 085638 | Codeine, Aspirin, APAP Formula No. 4 (codeine phosphate, aspirin, and acetaminophen) Capsules, 60 mg/180 mg/150 mg | Scherer Laboratories, Inc., 2301 Ohio Dr., Suite 234, Plano, TX 75093.
ANDA 085639 | Codeine, Aspirin, APAP Formula No. 3 (codeine phosphate, aspirin, and acetaminophen) Capsules, 30 mg/180 mg/150 mg | Do.
ANDA 085640 | Codeine, Aspirin, APAP Formula No. 2 (codeine phosphate, aspirin, and acetaminophen) Capsules, 15 mg/180 mg/150 mg | Do.
ANDA 085672 | Hydrochlorothiazide Tablets, 50 mg | ABC Holding Corp.
ANDA 085756 | Cam-Metrazine (phendimetrazine tartrate) Tablets, 35 mg | Camall Co., Inc.
ANDA 085766 | Atropine Sulfate and Diphenoxylate HCl Tablets, 0.025 mg/2.5 mg | Private Formulations, Inc.
ANDA 085882 | Duvoid (bethanechol chloride) Tablets, 50 mg | Chartwell RX Sciences, LLC, 77 Brenner Dr., Congers, NY 10920.
ANDA 085888 | Brompheniramine Maleate Tablets | Leiner Health Products, Inc.
ANDA 085891 | Meclizine HCl Tablets, 25 mg | Anabolic, Inc.
ANDA 085895 | Secobarbital Sodium Capsules, 100 mg | Everylife.
ANDA 086008 | Hydrocortisone and Urea Cream, 1%/10% | Bioglan Laboratories, Ltd., 450 Hilltop Rd., Riegelsville, PA 18077.
ANDA 086077 | Nitrofurazone Ointment, 0.2% | Ambix Laboratories, Division of Organics Corp. of America.
ANDA 086079 | Hydrocortisone Ointment, 1% | Do.
ANDA 086080 | Hydrocortisone Cream, 1% | Do.
ANDA 086141 | Tolbutamide Tablets, 500 mg | Alra Laboratories, Inc.
ANDA 086260 | Ona-Mast (phentermine HCl) Tablets, 8 mg | MM Mast and Co.
ANDA 086262 | Duvoid (bethanechol chloride) Tablets, 10 mg | Chartwell RX Sciences, LLC.
ANDA 086263 | Duvoid (bethanechol chloride) Tablets, 25 mg | Do.
ANDA 086271 | Hydrocortisone Cream, 2.5% | Ambix Laboratories, Division of Organics Corp. of America.
ANDA 086272 | Hydrocortisone Ointment, 2.5% | Do.
ANDA 086498 | Amitriptyline HCl Tablets, 10 mg | Alra Laboratories, Inc.
ANDA 086499 | Amitriptyline HCl Tablets, 50 mg | Do.
ANDA 086500 | Amitriptyline HCl Tablets, 150 mg | Do.
ANDA 086501 | Amitriptyline HCl Tablets, 100 mg | Do.
ANDA 086502 | Amitriptyline HCl Tablets, 25 mg | Do.
ANDA 086503 | Amitriptyline HCl Tablets, 75 mg | Do.
ANDA 086511 | Ona-Mast (phentermine HCl) Capsules, 30 mg | MM Mast and Co.
ANDA 086516 | Ona-Mast (phentermine HCl) Capsules, 30 mg | Do.
ANDA 086550 | X-Trozine (phendimetrazine tartrate) Tablets, 35 mg | Shire Richwood, Inc., 7900 Tanners Gate Dr., Suite 200, Florence, KY 41042.
ANDA 086551 | X-Trozine (phendimetrazine tartrate) Tablets, 35 mg | Do.
ANDA 086552 | X-Trozine (phendimetrazine tartrate) Tablets, 35 mg | Do.
ANDA 086553 | X-Trozine (phendimetrazine tartrate) Tablets, 35 mg | Do.
ANDA 086554 | X-Trozine (phendimetrazine tartrate) Tablets, 35 mg | Do.
ANDA 086735 | Phentermine HCl Capsules, 15 mg | Camall Co., Inc.
ANDA 086748 | Theophylline Elixir, 80 mg/15 mL | Wockhardt EU Operations (Swiss) AG, c/o Morton Grove Pharmaceuticals, Inc.
ANDA 086766 | Nitrofurazone Ointment, 0.2% | Wendt Laboratories, Inc.
ANDA 087081 | Nitrofurazone Topical Solution, 0.2% | Do.
ANDA 087226 | Phentermine HCl Capsules, 30 mg | Camall Co., Inc.
ANDA 087371 | X-Trozine L.A. (phendimetrazine tartrate) Extended-Release Capsules, 105 mg | Shire Richwood, Inc.
ANDA 087392 | Aminophylline Injection, 25 mg/mL | Pharma Serve, Inc., Subsidiary of Torigian Laboratories, 218-20 98th Ave., Queens Village, NY 11429.
ANDA 087394 | X-Trozine (phendimetrazine tartrate) Capsules, 35 mg | Shire Richwood, Inc.
ANDA 087442 | Neosar (cyclophosphamide) for Injection, 100 mg/vial, 200 mg/vial, 500 mg/vial, 1 g/vial, and 2 g/vial | Bedford Laboratories, Division of Ben Venue Laboratories, Inc., 300 Northfield Rd., Bedford, OH 44146.
ANDA 087487 | Melfiat-105 (phendimetrazine tartrate) Extended-Release Capsules, 105 mg | Numark Laboratories, Inc., 75 Mayfield Ave., Edison, NJ 08837.
ANDA 087636 | Tropicamide Ophthalmic Solution, 0.5% | Miza Pharmaceuticals USA, Inc., c/o Optopics Laboratories.
ANDA 087637 | Tropicamide Ophthalmic Solution, 1% | Do.
ANDA 087681 | Paracaine (proparacaine HCl) Ophthalmic Solution, 0.5% | Optopics Laboratories Corp.
ANDA 087764 | Oby-Trim (phentermine HCl) Capsules, 30 mg | Shire Richwood, Inc.
ANDA 087932 | Triamcinolone Acetonide Cream, 0.025% | Ambix Laboratories, Division of Organics Corp. of America.
ANDA 088786 | Sodium Polystyrene Sulfonate USP Powder, 453.6 g/bottle | Wockhardt EU Operations (Swiss) AG, c/o Morton Grove Pharmaceuticals, Inc.
ANDA 088897 | Promethazine VC Plain (phenylephrine HCl and promethazine HCl) Syrup, 5 mg/5 mL and 6.25 mg/5 mL | Do.
ANDA 089141 | Aerolate (theophylline) Oral Solution, 150 mg/15 mL | Fleming and Co. Pharmaceuticals, Inc.
ANDA 089417 | Methocarbamol Tablets USP, 500 mg | American Therapeutics, Inc.
ANDA 089418 | Methocarbamol Tablets USP, 750 mg | Do.
ANDA 089478 | Acetaminophen and Codeine Phosphate Tablets USP, 300 mg/15 mg | Do.
ANDA 089479 | Acetaminophen and Codeine Phosphate Tablets USP, 300 mg/30 mg | Do.
ANDA 089480 | Acetaminophen and Codeine Phosphate Tablets USP, 300 mg/60 mg | Do.
ANDA 089514 | Trihexyphenidyl HCl Elixir, 2 mg/5 mL | Pharmaceutical Ventures, Ltd., P.O. Box D3700, Pomona, NY 10970.
ANDA 089726 | Prednisone Oral Solution, 5 mg/5 mL | Wockhardt EU Operations (Swiss) AG, c/o Morton Grove Pharmaceuticals, Inc.
ANDA 204472 | Fludeoxyglucose F-18 Injection USP, 20-300 mCi/mL | MIPS Cyclotron and Radiochemistry Facility, 1201 Welch Rd., Rm. PS049, Stanford, CA 94305.
ANDA 204517 | Sodium Fluoride F-18 Injection, 10-200 mCi/mL | Do.
ANDA 204535 | Ammonia N-13 Injection USP, 3.75-37.5 mCi/mL | Do.

Therefore, under §§ 314.150(b)(1) and 314.200 (21 CFR 314.150(b)(1) and 314.200), notice is given to the holders of the approved ANDAs listed in the table and to all other interested persons that the Director of CDER proposes to issue an order under section 505(e) of the Federal Food, Drug, and Cosmetic Act (FD&C Act) (21 U.S.C. 355(e)) withdrawing approval of the ANDAs and all amendments and supplements to them on the grounds that the ANDA holders have failed to submit reports required under §§ 314.81 and 314.98.

In accordance with section 505 of the FD&C Act and part 314 (21 CFR part 314), the ANDA holders are hereby provided an opportunity for a hearing to show why the applications listed previously should not be withdrawn and an opportunity to raise, for an administrative determination, all issues relating to the legal status of the drug products covered by these ANDAs.

An ANDA holder who decides to seek a hearing must file the following: (1) A written notice of participation and request for a hearing (see DATES and ADDRESSES) and (2) the data, information, and analyses relied on to demonstrate that there is a genuine and substantial issue of fact that requires a hearing (see DATES and ADDRESSES). Any other interested person may also submit comments on this notice. The procedures and requirements governing this notice of opportunity for a hearing, the notice of participation and request for a hearing; the information and analyses to justify a hearing, other comments, and a grant or denial of a hearing are contained in § 314.200 and in 21 CFR part 12.

The failure of an ANDA holder to file a timely written notice of participation and request for a hearing, as required by § 314.200, constitutes an election by that ANDA holder not to avail itself of the opportunity for a hearing concerning CDER's proposal to withdraw approval of the ANDAs and constitutes a waiver of any contentions concerning the legal status of the drug products. FDA will then withdraw approval of the ANDAs, and the drug products may not thereafter be lawfully introduced or delivered for introduction into interstate commerce. Any new drug product introduced or delivered for introduction into interstate commerce without an approved ANDA is subject to regulatory action at any time.

A request for a hearing may not rest upon mere allegations or denials but must present specific facts showing that there is a genuine and substantial issue of fact that requires a hearing. If a request for a hearing is not complete or is not supported, the Commissioner of Food and Drugs will enter summary judgment against the person who requests the hearing, making findings and conclusions, and denying a hearing.

All submissions under this notice of opportunity for a hearing must be filed in four copies. Except for data and information prohibited from public disclosure under 21 U.S.C. 331(j) or 18 U.S.C. 1905, the submissions may be seen at the Dockets Management Staff (see ADDRESSES) between 9 a.m. and 4 p.m., Monday through Friday, and will be posted to the docket at https://www.regulations.gov.

This notice is issued under section 505(e) of the FD&C Act and under authority delegated to the Director of CDER by the Commissioner of Food and Drugs.

Dated: January 3, 2020.
Lowell J. Schiller,
Principal Associate Commissioner for Policy.

[FR Doc. 2020-00120 Filed 1-8-20; 8:45 am]

BILLING CODE 4164-01-P